DEPARTMENT OF TRANSPORTATION

Research and Special Programs Administration

49 CFR Parts 106, 107, 171, 172, 173, 178, 179 and 180

[Docket No. RSPA-04-16099 (HM-189W)]

RIN 2137-AD99

Hazardous Materials Regulations: Minor Editorial Corrections and Clarifications

AGENCY: Research and Special Programs Administration (RSPA), DOT.

ACTION: Final rule.

SUMMARY: This final rule corrects editorial errors, makes minor regulatory changes and, in response to requests for clarification, improves the clarity of certain provisions in the Hazardous Materials Regulations (HMR). The intended effect of this rule is to enhance the accuracy and reduce misunderstandings of the regulations. The amendments contained in this rule are minor changes and do not impose new requirements.

DATES: Effective date: October 1, 2004.

FOR FURTHER INFORMATION CONTACT: Darral Relerford, Office of Hazardous Materials Standards, (202) 366-8553, Research and Special Programs Administration, U.S. Department of Transportation, 400 Seventh Street, SW., Washington, DC 20590-0001.

SUPPLEMENTARY INFORMATION:

I. Background

The Research and Special Programs Administration (RSPA, we) annually reviews the Hazardous Materials Regulations (HMR; 49 CFR parts 171-180) to identify errors that may confuse readers. Inaccuracies corrected in this final rule include typographical and printing errors, incorrect references to regulations in the CFR, inconsistent use of terminology, and misstatements of certain regulatory requirements. In addition, we are making certain other changes to improve the clarity of certain HMR requirements.

Because these amendments do not impose new requirements, notice and public procedure are unnecessary. In addition, making these amendments effective without the customary 30-day delay following publication will allow the changes to appear in the next revision of 49 CFR.

The following is a section-by-section summary of the amendments made under this final rule. It does not discuss all minor editorial corrections (for example, punctuation errors) and certain other minor adjustments to enhance the clarity of the HMR.

II. Section-by-Section Review

Part 106

Section 106.70. In paragraph (b), in the first sentence, the wording “on you which are commenting” is revised to read “on which you are commenting.”

Part 107

Section 107.219. In paragraph (c), we are removing an obsolete reference to § 107.201(c).

Appendix A to Subpart D of Part 107: In Appendix A to subpart D of part 107, in the List of Frequently Cited Violations in Part II, under the heading “General Requirements” under “B. Training requirements:” entry 2. b., we are updating the Baseline assessment from “$250” to read “$275”. Also under the heading “Offeror Requirements—All hazardous materials,” under “D. Package Marking Requirements,” we are correcting the section reference “§ 172.303(a)(4)” to read “§ 172.304(a)(4)” in entry 8.

Part 171

Section 171.6. In paragraph (b)(2), the table of OMB control numbers is revised to reflect current affected sections for OMB Control Number 2137-0557.

Part 172

Section 172.101 Hazardous Materials Table (HMT). We are amending the HMT to correct certain entries, as follows:

—For the entry “Detonators, non-electric, for blasting,” UN0455, in column (10A), the vessel stowage location code “5” is corrected to read “05.”

—For the entry “Etching acid, liquid, n.o.s., see Hydrofluoric acid, solution etc.,” in Column (2), the word “solution” is corrected from Roman type to italics.

—For the entry “Gasoline,” 3, UN1203, in column (7), Special Provision “B101” is corrected to read “B1.”

—For the entry “Methyl mercaptopropionaldehyde, see Thia-4-pentanal,” in Column (2), the word “Thia-4-pentanal” is corrected to read “4-Thiapentanal.”

—For the entry “Perfumery Products, with flammable solvents,” UN1266, Packing Group II, in column (9A), the quantity limitation for passenger aircraft/rail is corrected to read “15 L.” This error appears in Docket No. RSPA-2004-18575 (HM-189X) effective October 1, 2004 (July 13, 2004; 69 FR 41967).

—For the entry “Self-reactive liquid type F, UN3229,” Column (1) is revised by reinstating the letter “G,” which was inadvertently omitted in a recent rulemaking published on June 22, 2004, under Docket No. RSPA 2003-13658 (HM-215E), “Response to Appeals and Corrections,” (69 FR 34604).

—For the entry “Wood preservatives, UN1306,” the proper shipping name is corrected to read, “Wood preservatives, liquid.” This error appears in Docket No. RSPA-2004-18575 (HM-189X).

Section 172.102. In paragraph (c)(7)(vi)(D)(3), we are correcting the spelling of the word “not.”

Section 172.202. In paragraph (a)(2), we are correcting the reference to the section number for the Hazardous Materials Table. In paragraph (a)(2)(ii), we are correcting a proper shipping name by adding “n.o.s.” to “Combustible liquid.”

Section 172.512. In paragraphs (a)(3) and (b)(3), we are correcting section references.

Part 173

Section 173.32. In paragraph (c)(3), in the second sentence, we are correcting the reference “§ 178.275(f)(4)” to read “§ 178.275(f)(1).”

Section 173.61. In paragraph (c), we are correcting the ID number “NA 0350” to read “UN 0350.”

Section 173.133. Paragraphs (b)(1)(i) and (iii), in the formula, we are correcting “LC50i” to read “LC50i” and “LC50i” to read “LC50i.”

Section 173.185. Paragraphs (g)(2) and (j) are corrected to provide the correct section reference.

Section 173.225. In the Organic Peroxide Table, for the entry “tert-Butyl peroxyneodecanoate [as a stable dispersion in water],” UN3117, ≤52, under column (6), “Packing method” we are removing “, IBC” which is an error. Section 173.225(b)(6) states that the designation “IBC” means that Special Provision IB52 in the Hazardous Material Table in § 172.102 applies. Special Provision IB52 does not list “UN3117” as an authorized hazardous material for transport in an IBC. An IBC, however, may be authorized for this hazardous material when approved by the Associate Administrator as stated in § 172.102(c)(4).

Section 173.315. In paragraph (j)(3), in the last sentence, we are correcting the reference “§ 177.834(g)” to read “§ 177.834(a).”

Section 173.316. In paragraph (b), we are making a minor editorial revision and correcting the reference “§ 173.34(d)” to read “§ 173.301(f).”

Part 178

Section 178.68. In paragraph (i)(2), in the first sentence, we are correcting the reference “(i)(1)(i)” to read “(i)(1).”

Section 178.276. In paragraph (f), we are correcting the section reference “§ 178.275(h)” to read “§ 178.275(i).”

Section 178.358-5. In paragraph (c), we are correcting the parenthetical phase “(incorporated by reference; see § 171.1 of this subchapter)” to read “(IBR, see § 171.7 of this subchapter).”

Section 178.609. We are revising the wording in paragraphs (d)(1) and (2) to clarify test requirements for infectious substances packagings.

Section 178.707. In paragraph (c)(3)(iv), in the first sentence, we are correcting the wording “INCs” to read “IBCs.”

Part 179

Section 179.200-16. In paragraph (e), in the last sentence, we are correcting the section reference “§ 179.201-1(a)” to read “§ 179.201-1.”

Section 179.220-17. In paragraph (e), in the last sentence, we are correcting the section reference “§ 179.221-1(a)” to read “§ 179.221-1.”

Section 179.300-1. We are revising the section heading to remove an obsolete reference to § 179.302.

Part 180

Section 180.403. In the definition for “Replacement of a barrel,” we are correcting the section reference “§ 178.337-1” to read “§ 178.320.”

Section 180.417. Paragraph (b)(1)(v) is duplicative of the requirement in paragraph (b)(2)(v). Therefore, we are removing paragraph (b)(1)(v) and redesignating paragraph (b)(2)(v) as paragraph (b)(1)(v). Paragraph (b)(2)(v) is being reserved.

III. Rulemaking Analyses and Notices

A. Executive Order 12866 and DOT Regulatory Policies and Procedures

This final rule is not considered a significant regulatory action under section 3(f) of Executive Order 12866 and, therefore, was not reviewed by the Office of Management and Budget. This rule is not significant under the Regulatory Policies and Procedures of the Department of Transportation (44 FR 11034). Because there is no economic impact of this rule, preparation of a regulatory impact analysis is not warranted.

B. Executive Order 13132

This final rule has been analyzed in accordance with the principles and criteria in Executive Order 13132 (“Federalism”). This final rule does not adopt any regulation that: (1) Has substantial direct effects on the States, the relationship between the national government and the States, or the distribution of power and responsibilities among the various levels of government; (2) imposes substantial direct compliance costs on State and local governments; or (3) preempts state law.

RSPA is not aware of any State, local, or Indian tribe requirements that would be preempted by correcting editorial errors and making minor regulatory changes. This final rule does not have sufficient federalism impacts to warrant the preparation of a federalism assessment.

C. Executive Order 13175

This rule has been analyzed in accordance with the principles and criteria contained in Executive Order 13175 (“Consultation and Coordination with Indian Tribal Governments”). Because this rule does not have tribal implications and does not impose substantial direct compliance costs, the funding and consultation requirements of Executive Order 13175 do not apply.

D. Regulatory Flexibility Act

I certify that this final rule will not have a significant economic impact on a substantial number of small entities. This rule makes minor regulatory changes which will not impose any new requirements on persons subject to the HMR; thus, there are no direct or indirect adverse economic impacts for small units of government, businesses or other organizations.

E. Unfunded Mandates Reform Act of 1995

This rule does not impose unfunded mandates under the Unfunded Mandates Reform Act of 1995. It does not result in costs of $120.7 million or more to either State, local, or tribal governments, in the aggregate, or to the private sector, and is the least burdensome alternative that achieves the objective of the rule.

F. Paperwork Reduction Act

There are no new information collection requirements in this final rule.

G. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects

49 CFR Part 106

Administrative practice and procedure, Hazardous materials transportation.

49 CFR Part 107

Administrative practice and procedure, Hazardous materials transportation, Packaging and containers, Penalties, Reporting and recordkeeping requirements.

49 CFR Part 171

Exports, Hazardous materials transportation, Hazardous waste, Imports, Reporting and recordkeeping requirements.

49 CFR Part 172

Education, Hazardous materials transportation, Hazardous waste, Labeling, Markings, Packaging and containers, Reporting and recordkeeping requirements.

49 CFR Part 173

Hazardous materials transportation, Packaging and containers, Radioactive materials, Reporting and recordkeeping requirements, Uranium.

49 CFR Part 178

Hazardous materials transportation, Motor vehicle safety, Packaging and containers, Reporting and recordkeeping requirements.

49 CFR Part 179

Hazardous materials transportation, Railroad safety, Reporting and recordkeeping requirements.

49 CFR Part 180

Hazardous materials transportation, Motor vehicle safety, Packaging and containers, Reporting and recordkeeping requirements.

In consideration of the foregoing, 49 CFR chapter I is amended as follows:

PART 106—RULEMAKING PROCEDURES

1. The authority citation for part 106 continues to read as follows:

Authority: 49 U.S.C. 5101-5127; 49 CFR 1.53.

2. In § 106.70, paragraph (b) is revised to read as follows:

§ 106.70 Where and when to file comments.

* * * * *

(b) Make sure that your comments reach us by the deadline set out in the rulemaking document on which you are commenting. We will consider late filed comments to the extent possible.

* * * * *

PART 107—HAZARDOUS MATERIALS PROGRAM PROCEDURES

3. The authority citation for part 107 continues to read as follows:

Authority: 49 U.S.C. 5101-5127, 44701; Pub. L. 101-410 section 4 (28 U.S.C. 2461 note); Pub. L. 104-121 sections 212-213; Pub. L. 104-134 section 31001; 49 CFR 1.45, 1.53.

4. In § 107.219, paragraph (c) introductory text is revised to read as follows:

§ 107.219 Processing.

* * * * *

(c) The Associate Administrator will only consider an application for waiver of preemption determination if—

* * * * *

5. In Appendix A to subpart D of part 107, in the List of Frequently Cited Violations (part II), under the heading “General Requirements” under “B. Training requirements:” entry 2.b. and under the heading “Offeror Requirements—All hazardous materials” under “D. Package Marking Requirements:”, entry 8, are revised to read as follows:

II.—List of Frequently Cited Violations
Violation description | Section or cite | Baseline assessment
General Requirements
* * * * * * *
B. Training requirements: * * *
2. * * * |
b. 10 hazmat employees or fewer |  | $275 and up each area.
* * * * * * *
Offeror Requirements—All hazardous materials
D. Package Marking Requirements: * * *
8. Failure to locate required markings away from other markings that could reduce their effectiveness | 172.304(a)(4) | $800.
* * * * * * *

* * * * *

PART 171—GENERAL INFORMATION, REGULATIONS, AND DEFINITIONS

6. The authority citation for part 171 continues to read as follows:

Authority: 49 U.S.C. 5101-5127, 44701; 49 CFR 1.45 and 1.53; Pub. L. 101-410 section 4 (28 U.S.C. 2461 note); Pub. L. 104-134 section 31001.

7. In § 171.6, in the paragraph (b)(2) Table, the entry for “2137-0557” is revised to read as follows:

§ 171.6 Control numbers under the Paperwork Reduction Act.

* * * * *

(b) * * *

(2) Table.

* * * * *

Current OMB control No. | Title | Title 49 CFR part or section where identified and described
* * * * * * *
2137-0557 | Approvals for Hazardous Materials | §§ 107.402; 107.403; 107.405; 107.503; 107.705; 107.713; 107.715; 107.717; 107.803; 107.805; 107.807; 110.30; 172.101; 172.102, Special Provisions 26, 19, 53, 55, 60, 105, 118, 121, 125, 129, 131, 133, 136, 172.102, Special Provisions 26, 19, 53, 55, 60, 105, 118, 121, 125, 129, 131, 133, 136; Special Provisions B45, B55, B61, B69, B77, B81, N10, N72; 173a; 173.4; 173.7; 173.21; 173.22; 173.24; 173.38; 173.31; 173.51; 173.56; 173.58; 173.59; 173.124; 173.128; 173.159; 173.166; 173.171; 173.214; 173.222; 173.224; 173.225; 173.245; 173.301; 173.305; 173.306; 173.314; 173.315; 173.316; 173.318; 173.334; 173.340; 173.411; 173.433; 173.457; 173.471; 173.472; 173.476; 174.50; 174.63; 175.10; 175.701; 176.168; 176.340; 176.704; 178.3; 178.35; 178.47; 178.53; 178.270-3; 178.270-13; 178.273; 178.274; 178.503; 178.509; 178.605; 178.606; 178.608; 178.801; 178.813; 180.213.
* * * * * * *

* * * * *

PART 172—HAZARDOUS MATERIALS TABLE, SPECIAL PROVISIONS, HAZARDOUS MATERIALS COMMUNICATIONS, EMERGENCY RESPONSE INFORMATION, AND TRAINING REQUIREMENTS

8. The authority citation for part 172 continues to read as follows:

Authority: 49 U.S.C. 5101-5127; 49 CFR 1.53.

§ 172.101 [Amended].

9. In § 172.101, in the Hazardous Materials Table, the following changes are made:

a. For the entry “Detonators, non-electric, for blasting”, UN0455, in column (10A), “5” is removed and “05” is added in its place.

b. For the entry “Etching acid, liquid, n.o.s., see Hydrofluoric acid, solution etc”, in Column (2), “solution” is removed and “solution,” is added in its place.

c. For the entry “Gasoline”, 3, UN1203, in column (7), “B101” is removed and “B1” is added in its place.

d. For the entry “Methyl mercaptopropionaldehyde, see Thia-4-pentanal”, in Column (2), the word “Thia-4-pentanal” is removed and “4-Thiapentanal” is added in its place.

e. For the entry “Perfumery products, with flammable solvents”, UN1266, in column (9A), “5 L” is removed and “15 L” is added in its place.

f. For the entry “Self-reactive liquid type F”, UN3229, in Column (1), the letter “G” is added.

g. For the entry “Wood preservatives”, UN1306, in column (2), the word “Wood preservatives” is removed and “Wood preservatives, liquid” is added in its place.

10. In § 172.102, paragraph (c)(7)(vi)(D)(3), is revised to read as follows:

§ 172.102 Special provisions.

* * * * *

(c) * * *

(7) * * *

(vi) * * *

(D) * * *

(3) When no bottom openings are authorized, the alternative portable tank must not have bottom openings.

* * * * *

11. In § 172.202, the first sentence in paragraph (a)(2) introductory text and paragraph (a)(2)(ii) are revised to read as follows:

§ 172.202 Description of hazardous material on shipping papers.

(a) * * *

(2) The hazard class or division number prescribed for the material, as shown in Column (3) of the § 172.101 Table. * * *

* * * * *

(ii) The hazard class need not be included for the entry “Combustible liquid, n.o.s.”.

* * * * *

12. In § 172.512 paragraph (a)(3) and (b)(3) are revised to read as follows:

§ 172.512 Freight containers and aircraft unit load devices.

(a) * * *

(3) Placarding is not required on a freight container or aircraft unit load device if it is only transported by air and is identified as containing a hazardous material in the manner provided in part 7, chapter 2, section 2.7, of the ICAO Technical Instructions (IBR, see § 171.7 of this subchapter).

* * * * *

(b) * * *

(3) Is identified as containing a hazardous material in the manner provided in part 7, chapter 2, section 2.7, of the ICAO Technical Instructions. When hazardous materials are offered for transportation, not involving air transportation, in a freight container having a capacity of less than 640 cubic feet the freight container need not be placarded. However, if not placarded, it must be labeled in accordance with subpart E of this part.

* * * * *

PART 173—SHIPPERS—GENERAL REQUIREMENTS FOR SHIPMENTS AND PACKAGINGS

13. The authority citation for part 173 continues to read as follows:

Authority: 49 U.S.C. 5101-5127, 44701; 49 CFR 1.45, 1.53.

§ 173.32 [Amended].

14. In § 173.32, in the second sentence in paragraph (c) (3), the wording “§§ 178.275(f)(4) and 178.277” is revised to read “§§ 178.275(f)(1) and 178.277”.

§ 173.61 [Amended].

15. In § 173.61, in paragraph (c), the ID number “NA 0350” is revised to read “UN 0350” and placed in alphanumeric order.

16. In § 173.133, the formulas in paragraphs (b)(1)(ii) and (b)(1)(iii) are revised to read as follows:

§ 173.133 Assignment of packaging group and hazard zones for Division 6.1 materials.

* * * * *

(b) * * *

(1) * * *

(i) The LC50 of the mixture is estimated using the formula:

* * *

(iii) The ratio of the volatility to the LC50 is calculated using the formula:

* * * * *

§ 173.185 [Amended].

17. In § 173.185, the following changes are made:

a. In paragraph (g)(2), the wording “(e)(5)” is revised to read “(e)(4)”.

b. In paragraph (j), the wording “(e)(5)” is revised to read “(e)(4)”.

§ 173.225 [Amended].

18. In § 173.225, in the paragraph (b), in the Organic Peroxide Table, for the entry “tert-Butyl peroxyneodecanoate [as a stable dispersion in water], UN3117, ≤52”, in column (6), “OP8, IBC” is revised to read “OP8”.

19. In § 173.315, paragraph (j)(3) is revised to read as follows:

§ 173.315 Compressed gases in cargo tanks and portable tanks.

* * * * *

(j) * * *

(3) The containers must be braced or otherwise secured on the vehicle to prevent relative motion while in transit. Valves or other fittings must be adequately protected against damage during transportation. (See § 177.834(a) of this subchapter.)

* * * * *

§ 173.316 [Amended].

20. In § 173.316, paragraph (b), the wording “§ 173.34(d)” is revised to read “§ 173.301(f)”.

PART 178—SPECIFICATIONS FOR PACKAGINGS

21. The authority citation for part 178 continues to read as follows:

Authority: 49 U.S.C. 5101-5127; 49 CFR 1.53.

22. In § 178.68, paragraph (i)(2) is revised to read as follows:

§ 178.68 Specification 4E welded aluminum cylinders.

* * * * *

(i) * * *

(2) If the weld is at midlength of the cylinder, the test may be made as specified in paragraph (i)(1) of this section or must be made between wedge shaped knife edges (60° angle) rounded to a ½ inch radius. There must be no evidence of cracking in the sample when it is flattened to no more than 6 times the wall thickness.

* * * * *

§ 178.276 [Amended].

23. In § 178.276, in paragraph (f), in the fourth sentence, the wording “§ 178.275(h)” is revised to read “§ 178.275(i)”.

24. In § 178.358-5, paragraph (c) is revised to read as follows:

§ 178.358-5 Required markings.

* * * * *

(c) For Specification 21PF-1A and -1B only, the markings required by this section must be affixed to each overpack by inscription upon a metal identification plate 11 inches wide x 15 inches long (28 cm x 38 cm), fabricated of 16 to 20 gauge stainless steel sheet, ASTM A-240/A 240M (IBR, see § 171.7 of this subchapter), Type 304L.

* * * * *

25. In § 178.609, the introductory text to paragraphs (d)(1) and (d)(2) are revised to read as follows:

§ 178.609 Test requirements for packaging for infectious substances.

* * * * *

(d) * * *

(1) Where the samples are in the shape of a box, five samples must be dropped, one in each of the following orientation: * * *

(2) Where the samples are in the shape of a drum, three samples must be dropped, one in each of the following orientations: * * *

26. In § 178.707, paragraph (c)(3)(iv) is revised to read as follows:

§ 178.707 Standards for composite IBCs.

* * * * *

(c) * * *

(3) * * *

(iv) Composite IBCs intended for the transportation of liquids must be capable of releasing a sufficient amount of vapor to prevent the body of the IBC from rupturing if it is subjected to an internal pressure in excess of that for which it was hydraulically tested. This may be achieved by spring-loaded or non-reclosing pressure relief devices or by other means of construction.

* * * * *

PART 179—SPECIFICATIONS FOR TANK CARS

27. The authority citation for part 179 continues to read as follows:

Authority: 49 U.S.C. 5101-5127; 49 CFR 1.53.

§ 179.200-16 [Amended].

28. In § 179.200-16, in paragraph (e), in the last sentence, the reference “§ 179-201-1(a)” is corrected to read “§ 179.201-1”.

§ 179.220-17 [Amended].

29. In § 179.220-17, in paragraph (e), in the last sentence, the reference “§ 179-221-1(a)” is corrected to read “§ 179.221-1”.

30. In § 179.300-1, the section heading is revised to read as follows:

§ 179.300-1 Tanks built under these specifications shall meet the requirements of §§ 179.300 and 179.301.

PART 180—CONTINUING QUALIFICATION AND MAINTENANCE OF PACKAGINGS

31. The authority citation for part 180 continues to read as follows:

Authority: 49 U.S.C. 5101-5127; 49 CFR 1.53.

32. In § 180.403, the definition of “Replacement of a barrel” is revised to read as follows:

§ 180.403 Definitions.

* * * * *

Replacement of a barrel means to replace the existing tank on a motor vehicle chassis with an unused (new) tank. For the definition of tank, see § 178.320, § 178.345, or § 178.338-1 of this subchapter, as applicable.

* * * * *

33. In § 180.417, paragraph (b)(1)(v) is revised, and paragraph (b)(2)(v) is removed and reserved, to read as follows:

§ 180.417 Reporting and record retention requirements.

* * * * *

(b) * * *

(1) * * *

(v) Minimum thickness of the cargo tank shell and heads when the cargo tank is thickness tested in accordance with § 180.407(d)(4), § 180.407(e)(3), § 180.407(f)(3), or § 180.407(i);

* * * * *

Issued in Washington, DC, on August 17, 2004, under authority delegated in 49 CFR part 1.
Samuel G. Bonasso,
Deputy Administrator.

[FR Doc. 04-19742 Filed 9-3-04; 8:45 am]

BILLING CODE 4910-60-P